Proclamation 8995 of June 14, 2013

World Elder Abuse Awareness Day, 2013

By the President of the United States of America

A Proclamation

After a lifetime of hard work and sacrifice, every American should be able to enjoy their golden years with dignity and security. But too often, senior citizens are the victims of abuse, neglect, or financial exploitation. Elder abuse is a global public health problem that affects people of every background and culture, and while it often occurs in silence, it takes a devastating toll on millions of older Americans each year. On World Elder Abuse Awareness Day, we reaffirm our commitment to ending this crime in all its forms.

My Administration is a determined advocate for older Americans. Through the Elder Justice Act, which was enacted as part of the Affordable Care Act, we are working to prevent elder abuse, neglect, and exploitation. States and tribes are investigating risk factors for abuse and neglect and identifying strategies to stop it. We convened the Elder Justice Coordinating Council to better focus prevention efforts across the Federal Government. We are committed to combatting exploitation by empowering seniors to meet financial challenges and helping them avoid scams. And we continue to pursue a rigorous criminal justice response to elder abuse, neglect, and exploitation—one that holds offenders accountable, gives professionals meaningful training, and ensures victims get the help they need.

Older Americans have steered our Nation through times of hardship and war, and ushered in eras of progress and prosperity. Today, let us stand up and speak out on their behalf, and meet our responsibility to show our elders the care and respect they deserve.

NOW, THEREFORE, I, BARACK OBAMA, President of the United States of America, by virtue of the authority vested in me by the Constitution and the laws of the United States, do hereby proclaim June 15, 2013, as World Elder Abuse Awareness Day. I call upon all Americans to observe this day by learning the signs of elder abuse, neglect, and exploitation, and by raising awareness about this growing public health issue.

IN WITNESS WHEREOF, I have hereunto set my hand this fourteenth day of June, in the year of our Lord two thousand thirteen, and of the Independence of the United States of America the two hundred and thirty-seventh.

[FR Doc. 2013-14969

Filed 6-19-13; 11:15 am]

Billing code 3295-F3